DEPARTMENT OF HEALTH AND HUMAN SERVICES

National Institutes of Health

Notice of Establishment

Pursuant to the Federal Advisory Committee Act, as amended (5 U.S.C. Appendix 2), the Director, National Institutes of Health (NIH), announces the establishment of the National Longitudinal Study of Environmental Effects on Child Health and Development Advisory Committee (Committee).

This Committee shall advise, consult with, and make recommendations to the Director, National Institute of Child Health and Human Development, and the Interagency Coordinating Committee of the National Longitudinal Study, on the planning and implementation of the Longitudinal Cohort Study.

Unless renewed by appropriate action prior to its expiration, the charter for the National Longitudinal Study of Environmental Effects on Child Health and Development Advisory Committee will expire two years from the date of establishment.

Dated: October 22, 2001.
Ruth L. Kirschstein,
Acting Director, National Institutes of Health.

[FR Doc. 01-27025 Filed 10-25-01; 8:45 am]

BILLING CODE 4140-01-M